DEPARTMENT OF HEALTH AND HUMAN SERVICES

National Institutes of Health

Center for Scientific Review, Amended Notice of Meeting

Notice is hereby given a change in the meeting of the Center for Scientific Review Special Emphasis Panel, October 31, 2005, 2 p.m. to October 31, 2005, 4 p.m., National Institutes of Health, 6701 Rockledge Drive, Bethesda, MD, 20892 which was published in the Federal Register on October 18, 2005, 70 FR 60547-60548.

The meeting will be held November 4, 2005, from 3 p.m. to 5 p.m. The meeting location remains the same. The meeting is closed to the public.

Dated: October 20, 2005.
Anthony M. Coelho, Jr.,
Acting Director, Office of Federal Advisory Committee Policy.

[FR Doc. 05-21658 Filed 10-31-05; 8:45 am]

BILLING CODE 4140-01-M